DEPARTMENT OF THE INTERIOR

Bureau of Land Management

[WY-957-08-1420-BJ-TRST]

Notice of Filing of Plats of Survey, Wyoming

AGENCY: Bureau of Land Management, Interior.

SUMMARY: The Bureau of Land Management (BLM) is scheduled to file the plats of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the Bureau of Indian Affairs and is necessary for the management of these lands. The lands surveyed are:

The plat and field notes representing the dependent resurvey of portions of the Wind River Base Line, through Range 2 East, subdivisional lines and subdivision of section lines, and the survey of the subdivision of section 5, Township 1 South, Range 2 East, of the Wind River Meridian, Wyoming, Group No. 774, was accepted April 14, 2008.

The plat and field notes representing the dependent resurvey of a portion of the subdivisional lines and a portion of the subdivision of section 5, and the survey of the subdivision of section 5, and the metes and bounds survey of Parcel A, section 5, Township 1 South, Range 1 West, of the Wind River Meridian, Wyoming, Group No. 775, was accepted April 16, 2008.

The plat and field notes representing the dependent resurvey of portions of the west boundary of the Wind River Indian Reservation, the north boundary, subdivisional lines and the adjusted meanders of the right bank of the Wind River, and the survey of the subdivision of section 3, and the metes and bounds survey of Parcels A and B, section 3, Township 5 North, Range 6 West, of the Wind River Meridian, Wyoming, Group No. 776, was accepted April 21, 2008.

The plat and field notes representing the dependent resurvey of portions of the subdivisional lines and subdivision of section 30, Township 1 North, Range 1 West, of the Wind River Meridian, Wyoming, Group No. 780, was accepted April 25, 2008.

The plat and field notes representing the dependent resurvey of portions of the subdivisional lines and subdivision of section 25, Township 1 North, Range 2 West, of the Wind River Meridian, Wyoming, Group No. 781, was accepted April 25, 2008.

Copies of the preceding described plat and field notes are available to the public at a cost of $1.10 per page.

Dated: April 30, 2008.
John P. Lee,
Chief Cadastral Surveyor, Division of Support Services.

[FR Doc. E8-9931 Filed 5-5-08; 8:45 am]

BILLING CODE 4467-22-P